DEPARTMENT OF JUSTICE

Antitrust Division

Notice Pursuant to the National Cooperative Research and Production Act of 1993—Southwest Research Institute: Effect of Emission Control Technologies on the Chemical and Physical Characteristics of Particulate Matter

Notice is hereby given that, on June 25, 2002, pursuant to section 6(a) of the National Cooperative Research and Production Act of 1993, 15 U.S.C. 4301 et seq. (“the Act”), Southwest Research Institute: Effect of Emission Control Technologies on the Chemical and Physical Characteristics of Particulate Matter has filed written notifications simultaneously with the Attorney General and the federal Trade Commission disclosing (1) the identities of the parties and (2) the nature and objectives of the venture. The notifications were filed for the purpose of invoking the Act's provisions limiting the recovery of antitrust plaintiffs to actual damages under specified circumstances. Pursuant to Section 6(b) of the Act, the identities of the parties are Caterpillar, Inc., Peoria, IL; INTEVEP, Cartacas, Venezuela; and Lubrizol Corporation, Wickliff, OH. The nature and objectives of the venture are to research the impact of various modern and novel NOX and PM control technologies on the chemical and physical characteristics of particles emitted from diesels. For NOX reduction, NOX adsorber technology and its control will be developed. For particulate matter control, diesel oxidation catalysts in combination with diesel particulate filters will be included.

Membership in this research group remains open, and the participants intend to file additional written notification disclosing all changes in membership or planned activities.

Constance K. Robinson,
Director of Operations, Antitrust Division.

[FR Doc. 02-19750 Filed 8-5-02; 8:45 am]

BILLING CODE 4410-11-M